DEPARTMENT OF DEFENSE

Department of the Army; Corps of Engineers

Chief of Engineers Environmental Advisory Board

AGENCY: Department of the Army, U.S. Army Corps of Engineers, DoD.

ACTION: Notice of open meeting.

SUMMARY: In accordance with Section 10(a)(2) of the Federal Advisory Committee Act (Pub. L. 92-463), announcement is made of the following committee meeting:

Name of Committee: Chief of Engineers Environmental Advisory Board (EAB).

Date of Meeting: July 19, 2006.

Place: U.S. Army Engineer Research and Development Center, Coastal and Hydraulics Laboratory, 3909 Halls Ferry Road, Vicksburg, MS 39180-6199.

Time: 8:30 a.m. to 3 p.m.

FOR FURTHER INFORMATION CONTACT: Ms. Rennie Sherman, Executive Secretary, rennie.h.sherman@usace.army.mil 202-761-7771. Notice of intent to attend the meeting must be provided by July 17, 2006.

SUPPLEMENTARY INFORMATION: The Board advises the Chief of Engineers by providing expert and independent advice on environmental issues facing the Corps of Engineers.

Proposed Agenda: On Wednesday, July 19, a joint meeting with the Coastal Engineering Research Board will be held. Presentations concerning Coastal Restoration Challenges are expected to include the following topics, “Interagency Performance Evaluation Taskforce,” “Louisiana Coastal Protection and Restoration Project,” “Mississippi Coastal Improvement Project,” and “Louisiana Coastal Area.”

The entire meeting is open to the public; and public comment is tentatively scheduled for 2 p.m. Since the meeting will be held in a government facility and seating capacity of the meeting is limited, advance notice of attendance is required. All attendees must stop at the guard gate and give their name and destination to the attending guard. A list of attendees will be provided to security. Oral participation by public attendees is encouraged during the time scheduled on the agenda. Each speaker will be limited to 3 minutes in order to accommodate as many people as possible during the limited time. Written statements may be submitted prior to the meeting or up to 30 days after the meeting.

Brenda S. Bowen,
Army Federal Register Liaison Officer.

[FR Doc. 06-5922 Filed 6-29-06; 8:45 am]

BILLING CODE 3710-92-M